DEPARTMENT OF EDUCATION

List of Correspondence From January 1, 2012, Through March 31, 2012

AGENCY: Office of Special Education and Rehabilitative Services; Department of Education.

ACTION: Notice.

SUMMARY: The Secretary is publishing the following list of correspondence from the U.S. Department of Education (Department) to individuals during the previous quarter. The correspondence on this list describes the Department's interpretations of the Individuals with Disabilities Education Act (IDEA) or the regulations that implement the IDEA. This list and the letters or other documents described in this list, with personally identifiable information redacted, as appropriate, can be found at: www2.ed.gov/policy/speced/guid/idea/index.html.

FOR FURTHER INFORMATION CONTACT: Jessica Spataro or Mary Louise Dirrigl. Telephone: (202) 245-7468.

If you use a telecommunications device for the deaf (TDD) or a text telephone (TTY), you can call the Federal Relay Service (FRS), toll free, at 1-800-877-8339.

Individuals with disabilities can obtain a copy of this list and the letters or other Departmental documents described in this list in an accessible format (e.g., braille, large print, audiotape, or compact disc) by contacting Jessica Spataro or Mary Louise Dirrigl at (202) 245-7468.

SUPPLEMENTARY INFORMATION: The following list identifies correspondence from the Department issued from January 1, 2012, through March 31, 2012. Under section 607(f) of the IDEA, the Secretary is required to publish this list quarterly in the Federal Register. The list includes those letters that contain interpretations of the requirements of the IDEA and its implementing regulations, and it may also include letters and other documents that the Department believes will assist the public in understanding the requirements of the law. The list identifies the date and topic of each letter, and it provides summary information, as appropriate. To protect the privacy interests of the individual or individuals involved, personally identifiable information has been redacted, as appropriate.

Part B—Assistance for Education of All Children With Disabilities

Section 612—State Eligibility

Topic Addressed: Free Appropriate Public Education

○ Letter dated February 29, 2012, to individuals (personally identifiable information redacted), regarding the obligation to make a free appropriate public education available to all eligible children with disabilities, including children with “high cognition” who meet the State's academic achievement standards.

Topic Addressed: Least Restrictive Environment

○ Dear Colleague Letter dated February 29, 2012, reiterating that the least restrictive environment requirements in Part B of the IDEA apply to the placement of preschool children with disabilities.

Section 614—Evaluations, Eligibility Determinations, Individualized Education Programs, and Educational Placements

Topic Addressed: Initial Evaluations

○ Letter dated February 29, 2012, to Association for Neurologically Impaired Children Executive Director Philip Ferrara, regarding the relationship between a process based on the child's response to scientific, research-based intervention and the evaluation requirements in Part B of the IDEA.

Topic Addressed: Individualized Education Programs

○ Letter dated March 7, 2012, to individual (personally identifiable information redacted), regarding individualized education program and placement requirements and applicable due process procedures in Part B of the IDEA.

Section 615—Procedural Safeguards

Topic Addressed: Impartial Due Process Hearings

○ Letter dated February 9, 2012, to School Law Center LLC, attorneys Amy Goetz and Atlee Reilly, regarding the right of a parent of a child with a disability to request a due process hearing under Minnesota law.

○ Letter dated February 16, 2012, to Minnesota Department of Education Commissioner Brenda Cassellius, regarding the explanation in Minnesota's notice of procedural safeguards of a parent's opportunity to request a due process hearing under Minnesota law.

Part C—Infants and Toddlers With Disabilities

Section 634—Eligibility

Topic Addressed: State Residency Requirements

○ Letter dated March 28, 2012, to individual (personally identifiable information redacted), regarding how State residency requirements may be implemented consistent with Part C of the IDEA.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: September 10, 2012.
Michael Yudin,
Acting Assistant Secretary for Special Education and Rehabilitative Services.

[FR Doc. 2012-22618 Filed 9-12-12; 8:45 am]

BILLING CODE 4000-01-P